Proclamation 9846 of March 1, 2019

Irish-American Heritage Month, 2019

By the President of the United States of America

A Proclamation

During Irish-American Heritage Month, we celebrate the indispensable contributions Irish Americans have made to every chapter of our Nation's history. Generations of Irish immigrants have carried to our shores character, culture, and values that continue to play pivotal roles in the strength and success of America.

Irish Americans helped define and defend our great Nation in its earliest days. The Continental Congress appointed more than 20 generals of Irish descent to lead the Continental Army through the Revolutionary War. The courage of these Irish generals on the battlefield was as inspiring as it was fierce. The Pennsylvania Line, the backbone of George Washington's Army and one of its largest and hardest-hitting units, consisted of so many soldiers of Irish descent that it was often called the “Line of Ireland.” After they fought for our Independence, Irish Americans helped enshrine the visionary principles of self-government outlined in the Declaration of Independence and the Constitution.

Many Irish Americans immigrated to the United States during the terrible years of Ireland's Great Famine in the middle of the 19th century. Despite facing discrimination and poverty, Irish Americans persevered thanks to their industry, leadership, and integral involvement in society. In 1868, Irish-American businessman Edmund McIlhenny grew his first commercial crop of peppers in Avery Island, Louisiana, and created “Tabasco” hot sauce. Andrew Mellon, the grandson of Irish immigrants, built a thriving business empire before becoming the Secretary of the Treasury, during which time he advocated for economic policies that sparked the tremendous prosperity of the 1920s. In 1937, he funded the construction of the National Gallery of Art and donated his extensive art collection to the museum.

Today, more than 31 million Americans look back with pride on their Irish heritage and the legacy of their ancestors. The faith, perseverance, and spirit of Irish Americans across our country is indelibly woven into the tapestry of the American story. As we spend this month honoring the incredible history of Irish Americans, especially on St. Patrick's Day, we look forward to a bright future of continued friendship and cooperation between the United States and Ireland.

NOW, THEREFORE, I, DONALD J. TRUMP, President of the United States of America, by virtue of the authority vested in me by the Constitution and the laws of the United States, do hereby proclaim March 2019 as Irish-American Heritage Month. I call upon all Americans to celebrate the achievements of Irish Americans and their contributions to our Nation with appropriate ceremonies, activities, and programs.

IN WITNESS WHEREOF, I have hereunto set my hand this first day of March, in the year of our Lord two thousand nineteen, and of the Independence of the United States of America the two hundred and forty-third.

[FR Doc. 2019-04202

Filed 3-5-19; 11:15 am]

Billing code 3295-F9-P